DEPARTMENT OF THE INTERIOR

Fish and Wildlife Service

[FWS-HQ-MB-2014-N007; 91100-3740-GRNT 7C]

Meeting Announcement: North American Wetlands Conservation Council

AGENCY: Fish and Wildlife Service, Interior.

ACTION: Notice of teleconference.

SUMMARY: The North American Wetlands Conservation Council (Council) will meet via telephone to select North American Wetlands Conservation Act (NAWCA) grant proposals for recommendation to the Migratory Bird Conservation Commission (Commission). This teleconference is open to the public, and interested persons may present oral or written statements.

DATES: Council: The teleconference is scheduled for February 4, 2014, from 1 p.m. to 4:30 p.m. If you are interested in presenting information, contact the Council Coordinator no later than January 27, 2014.

ADDRESSES: Because this is a conference call, there is no meeting venue. Participants should call the toll-free number 877-951-7596; when prompted, enter participant passcode 9469306.

FOR FURTHER INFORMATION CONTACT: Cynthia Perry, Council Coordinator, by phone at 703-358-2432; by email at dbhc@fws.gov; or by U.S. mail at U.S. Fish and Wildlife Service, 4401 N. Fairfax Drive, MBSP 4075, Arlington, VA 22203.

SUPPLEMENTARY INFORMATION:

Background

In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA.

Proposals require a minimum of 50 percent non-Federal matching funds. If you are interested in presenting information or submitting questions for this public meeting, contact the Council Coordinator no later than January 27, 2014.

Grant Programs

U.S. Small Grants Program

The Small Grants Program is a competitive matching grants program that supports public-private partnerships carrying out projects in the United States that further the goals of NAWCA. These projects must involve long-term protection, restoration, and/or enhancement of wetlands and associated uplands habitats for the benefit of all wetlands-associated migratory birds. This program supports the same type of projects and adheres to the same selection criteria and administrative guidelines as the U.S. Standard Grants Program. However, project activities are usually smaller in scope and involve fewer project dollars. Grant requests may not exceed $75,000, and funding priority is given to grantees or partners new to the NAWCA Grants Program.

The Canada Standard Grants Program is a matching grants program that supports public-private partnerships carrying out wetlands conservation projects in Canada. Their projects contribute to a comprehensive, programmatic approach towards furthering the goals of NAWCA. Project activities involve the long-term conservation of wetlands and associated upland habitats for the benefit of waterfowl and all wetland-associated migratory birds.

Project proposal due dates, application instructions, and eligibility requirements are available on the NAWCA Web site at http://www.fws.gov/birdhabitat/Grants/NAWCA.

If you are interested in presenting information or submitting questions for this public meeting, contact the Council Coordinator no later than January 27, 2014.

Meeting

The Council will consider U.S. small grant proposals and Canada grant proposals at the meeting. The Commission will consider the Council's recommendations at its meeting scheduled for March 26, 2014.

Public Input

If you wish to: | You must contact the Council Coordinator (see FOR FURTHER INFORMATION CONTACT) no later than
(1) Listen to the Council meeting | February 3, 2014.
(2) Submit written information or questions before the Council meeting for consideration during the meeting | January 27, 2014.

Submitting Written Information or Questions

Interested members of the public may submit relevant information or questions for the Council to consider during the public meeting. If you wish to submit a written statement, so that the information may be made available to the Council for their consideration prior to this meeting, you must contact the Council Coordinator by the date above. Written statements must be supplied to the Council Coordinator in both of the following formats: One hard copy with original signature, and one electronic copy via email (acceptable file formats are Adobe Acrobat PDF, MS Word, MS PowerPoint, or rich text file).

Giving an Oral Presentation

Individuals or groups requesting to make an oral presentation at the Council meeting will be limited to 2 minutes per speaker, with no more than a total of 30 minutes for all speakers. Interested parties should contact the Council Coordinator by the date above, in writing (preferably via email; see FOR FURTHER INFORMATION CONTACT), to be placed on the public speaker list for either of these meetings. Non-registered public speakers will not be considered during the Council meeting. Registered speakers who wish to expand upon their oral statements, or those who had wished to speak but could not be accommodated on the agenda, are invited to submit written statements to the Council within 30 days following the meeting.

Meeting Minutes

Summary minutes of the Council and meeting will be maintained by the Council Coordinator at the address under FOR FURTHER INFORMATION CONTACT. Council meeting minutes will be available by contacting the Council Coordinator within 30 days following the meeting. Personal copies may be purchased for the cost of duplication.

Jerome Ford,
Assistant Director, Migratory Birds.

[FR Doc. 2014-01262 Filed 1-24-14; 8:45 am]

BILLING CODE 4310-55-P